ENVIRONMENTAL PROTECTION AGENCY

[FRL-9187-1]

Science Advisory Board Staff Office; Request for Nominations of Experts to Augment the Advisory Council on Clean Air Compliance Analysis (Council)

AGENCY: Environmental Protection Agency (EPA).

ACTION: Notice.

SUMMARY: The EPA Science Advisory Board (SAB) Staff Office is requesting public nominations of experts to augment the Advisory Council on Clean Air Compliance Analysis (Council) to review EPA's draft report to Congress on the climate effects of black carbon emissions.

DATES: Nominations should be submitted by August 31, 2010 per instructions below.

FOR FURTHER INFORMATION CONTACT: Any member of the public wishing further information regarding this Notice and Request for Nominations may contact Stephanie Sanzone, Designated Federal Officer (DFO), SAB Staff Office, by telephone/voice mail at (202) 564-2067; by fax at (202) 565-2098 or via e-mail at sanzone.stephanie@epa.gov. General information concerning the Council can be found on the EPA SAB Web site at http://www.epa.gov/advisorycouncilcaa. Any inquiry regarding EPA's draft report to Congress on black carbon should be directed to Erika Sasser of EPA's Office of Air Quality Planning and Standards (OAQPS) at sasser.erika@epa.gov or (919) 541-3889.

SUPPLEMENTARY INFORMATION: Background: The Council was established in 1991 pursuant to the Clean Air Act (CAA) Amendments of 1990 (see 42 U.S.C. 7612) to provide advice, information and recommendations on technical and economic aspects of analyses and reports EPA prepares on the impacts of the CAA on the public health, economy, and environment of the United States. The Council is a chartered Federal Advisory Committee, and conducts business in accordance with the Federal Advisory Committee Act (FACA) (5 U.S.C. App. 2) and related regulations. Generally, Council meetings are announced in the Federal Register, conducted in public view, and provide opportunities for public input during deliberations. Staff support for the Council is provided by the SAB Staff Office. Additional information about the Council and its committees can be obtained on the SAB Web site at http://www.epa.gov/advisorycouncilcaa.

The October 2009 Interior Appropriations bill (Pub. L. 111-88) requires the EPA, in consultation with other Federal agencies, to prepare a comprehensive report to Congress on the climate effects of black carbon. Black carbon, or soot, results from incomplete combustion of organic matter such as fossil fuels and biomass. The report to Congress will evaluate and synthesize available information on sources of black carbon, impacts of black carbon on global and regional climate, and the potential utility and cost-effectiveness of mitigation options for reducing climate and public health impacts of black carbon.

EPA's Office of Air Quality Planning and Standards (OAQPS) have requested that the Council review the draft Report to Congress on Black Carbon to evaluate the report's scientific rigor and technical accuracy.

Request for Nominations

To augment expertise on the Council, the SAB Staff Office is seeking nominations of recognized experts in global and regional climate modeling; aerosol atmospheric chemistry; air emissions inventories; ambient monitoring; emissions measurement; health effects of black carbon and fine particulate matter (PM2.5); black carbon/PM2.5 controls and associated costs; and benefits assessment. In particular, we seek nominees with knowledge of black carbon emissions, impacts, and control strategies.

Process and Deadline for Submitting Nominations: Any interested person or organization may nominate individuals qualified in the area of science as described above to be considered for appointment to augment the Council for this review. Candidates also may nominate themselves. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested, and should be submitted in time to arrive no later than August 31, 2010. EPA values and welcomes diversity. In an effort to obtain nominations of diverse candidates, EPA encourages nominations of women and men of all racial and ethnic groups.

EPA's SAB Staff Office requests contact information about: the person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Ms. Sanzone, DFO, at the contact information provided above in this notice. Non-electronic submissions must follow the same format and contain the same information as the electronic.

The SAB Staff Office will acknowledge receipt of the nomination and inform nominees of the Committee for which they have been nominated. From the nominees identified by respondents to this Federal Register notice and other sources, the SAB Staff Office will develop a list of candidates for more detailed consideration. The list of candidates will be posted on the SAB Web site at http://www.epa.gov/advisorycouncilcaa and will include, for each candidate, the nominee's name and biosketch. Public comments on the list of candidates will be accepted for 21 calendar days. During this comment period, the public will be requested to provide information, analysis, or other documentation on nominees that the SAB Staff Office should consider in evaluating candidates for the Committee.

For the SAB Staff Office, a balanced Committee is characterized by inclusion of candidates who possess the necessary domains of knowledge, the relevant scientific perspectives (which, among other factors, can be influenced by work history and affiliation) and the collective breadth of experience to adequately address the charge. Public responses to the list of candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; (e) ability to work constructively and effectively in committees; and (f) for the Committee as a whole, diversity of scientific expertise and viewpoints.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: August 4, 2010.
Anthony F. Maciorowski,
Deputy Director, EPA Science Advisory Board Staff Office.

[FR Doc. 2010-19719 Filed 8-9-10; 8:45 am]

BILLING CODE 6560-50-P